DEPARTMENT OF AGRICULTURE

Food Safety and Inspection Service

[Docket No. 03-036N]

Codex Alimentarius Commission: Meeting of the Codex Committee on General Principles

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on October 27, 2003. The objective of the public meeting is to provide information and receive public comments on agenda items and draft United States' positions that will be discussed at the 19th (Extraordinary) Session of the Codex Committee on General Principles (CCGP) to be held in Paris, France, November 17-21, 2003. The Under Secretary for Food Safety and FDA recognize the importance of providing interested parties with the opportunity to obtain background information on the 19th (Extraordinary) Session of CCGP and to address items on the agenda.

DATES: The public meeting is scheduled for Monday, October 27, 2003 from 1 p.m. to 4 p.m.

ADDRESSES: The public meeting will be held in Room 107A, JLW Building, U.S. Department of Agriculture, 1400 Independence Avenue, Washington, DC. To receive copies of the Codex documents pertaining to the agenda items for the 19th (Extraordinary) CCGP session, contact the FSIS Docket Clerk, U.S. Department of Agriculture, Food Safety and Inspection Service, Room 102, Cotton Annex, 300 12th Street, SW., Washington, DC 20250-3700. The documents will also be accessible via the World Wide Web at the following address: http://www.codexalimentarius.net. If you would like to submit comments on one or more agenda items, please send them to the FSIS Docket Clerk and reference Docket #03-036N. All comments submitted in response to this notice will be available for public inspection in the Docket Clerk's Office between 8:30 a.m. and 4:30 p.m., Monday through Friday.

FOR FURTHER INFORMATION CONTACT: Ed Scarbrough, U.S. Manager for Codex, U.S. Codex Office, FSIS, Room 4861, South Agriculture Building, 1400 Independence Avenue, SW., Washington, DC 20250, Telephone (202) 205-7760; Fax: (202) 720-3157. Persons requiring a sign language interpreter or other special accommodations should notify Dr. Scarbrough at the above number.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. The Codex Committee on General Principles was established to deal with such procedural and general matters as are referred to it by the Codex Alimentarius Commission. Such matters have included the establishment of the General Principles that define the purpose and scope of the Codex Alimentarius, the nature of Codex standards and the forms of acceptance by countries of Codex standards; the development of Guidelines for Codex Committees; the development of a mechanism for examining any economic impact statements submitted by governments concerning possible implications for their economies of some of the individual standards or some of the provisions thereof; and the establishment of a Code of Ethics for the International Trade in Food. The Committee is hosted by the government of France.

Issues To Be Discussed at the Public Meeting

Items on the Provisional Agenda will be discussed at the public meeting.

Provisional Agenda

Agenda Item 1

Adoption of the Agenda CX/GP 03/19/1

Agenda Item 2

Matter Referred by the Codex Alimentarius Commission, including the Joint FAO/WHO Evaluation of the Codex Alimentarius and Other FAO and WHO Work on Food Standards CX/GP 03/19/2

Agenda Item 3

(a) Proposed Amendments to the Rules of Procedure, including the Structure and Functions of the Executive Committee CX/GP 03/19/3

(b) Proposed Amendment to Rule VII.5 CX/GP 03/19/3 Add. 2

(c) Consideration of the Status of Observers in the Executive Committee CX/GP 03/19/3 Add.2

Agenda Item 4

Processes for Standards Management (including the Critical Review):

(a) Revision of the Criteria for the Establishment of Work Priorities CX/GP 03/19/4

(b) Processes for Standards Management (including the review of the Elaboration Procedures) CX/GP 03/19/4 Add. 1

Agenda Item 5

Review of the Principles concerning the Participation of International Non-Governmental Organizations in the Work of the Codex Alimentarius Commission CX/GP 03/19/5

Agenda Item 6

Review of the Guidelines for Codex Committees

(a) advice to host countries (including criteria for the selection of chairpersons) CX/GP /03/19/6

(b) conduct of meetings CX/GP 03/19/6 Add. 1

Agenda Item 7

Other proposals to facilitate standard development (other than Standard management Process): Review of the Guidelines for Codex Committees and other additional text CX/GP 03/19/7

Public Meeting

At the public meeting, the issues and draft United States' positions on the issues will be described and discussed, and attendees will have the opportunity to pose questions and offer comments. Comments may be sent to the FSIS Docket Room (see ADDRESSES). In addition, they may be sent electronically to the U.S. Delegate (see ADDRESSES). Please state that your comments relate to CCGP activities and specify which issues your comments address.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done at Washington, DC, on October 20, 2003.
F. Edward Scarbrough,
U.S. Manager for Codex Alimentarius.

[FR Doc. 03-26817 Filed 10-23-03; 8:45 am]

BILLING CODE 3410-DM-P